DEPARTMENT OF TRANSPORTATION

Coast Guard

33 CFR Part 117

[CGD11-00-006]

RIN 2115-AE47

Drawbridge Operating Regulations; Honker Cut, San Joaquin County, CA

AGENCY: Coast Guard, DOT.

ACTION: Temporary final rule.

SUMMARY: The Commander, Eleventh Coast Guard District is temporarily changing the regulation governing the Eight Mile Road Drawbridge over Honker Cut, mile 0.3, San Joaquin County, California. The drawbridge need not open for vessel traffic and may remain in the closed-to-navigation position from 1201 a.m. on September 5 until 1159 p.m. on December 21, 2000. This temporary rule is issued to allow the preventative maintenance, cleaning and painting of the bridge.

DATES: This temporary rule is effective from 12:01 a.m. on September 5 until 11:59 p.m. on December 21, 2000.

ADDRESSES: The public docket and all documents referred to in this notice will be available for inspection and copying at the office of the Commander (oan-2), Building 50-6, Eleventh Coast Guard District, Coast Guard Island, Alameda, CA 94501-5100, between 7 a.m. and 4 p.m., Monday through Friday, except Federal holidays.

FOR FURTHER INFORMATION CONTACT: David H. Sulouff, Chief, Bridge Section, Eleventh Coast Guard District, Building 50-6 Coast Guard Island, Alameda, CA 94501-5100, telephone 510-437-3516.

SUPPLEMENTARY INFORMATION:

Regulatory Information

We did not publish a notice of proposed rulemaking (NPRM) for this regulation. Under 5 U.S.C. 553(b)(B), the Coast Guard finds that good cause exists for not publishing an NPRM. This rule is being promulgated without an NPRM due to the short time frame allowed between the submission of the request by the County of San Joaquin and the date of the maintenance. Additionally, extensive preliminary coordination with the waterway users was done and no negative impacts are expected. No negative comments were received and alternative navigational routes are available via Little Connection Slough or King Island Cut. The drawspan will be able to open if necessary, in the event of an emergency. Under 5 U.S.C. 553(d)(3), the Coast Guard finds that good cause exists for making this rule effective less than 30 days after publication in the Federal Register. This rule should be made effective in less than 30 days due to the short time frame allowed between the submission of the request by the County of San Joaquin and the date of the maintenance.

Background and Purpose

On June 5, 2000, the County of San Joaquin requested a temporary change to the operation of the Eight Mile Road Drawbridge over Honker Cut, mile 0.3, San Joaquin County, California to allow for maintenance, cleaning and painting. The drawspan provides 4 feet vertical clearance above flood stage when in the closed-to-navigation position. Navigation on the waterway consists of both commercial and recreational watercraft. Presently, the draw is required to open on signal if at least twelve hours advance notice is provided. The County requested the drawbridge be permitted to remain closed to navigation from September 5 until December 21, 2000. During this time the bridge will be enclosed with scaffolding and containment tarps while cleaning and painting operations are performed. This temporary drawbridge operation amendment has been coordinated with the waterway users. No objections to the proposed rule were raised.

Regulatory Evaluation

This temporary rule is not a “significant regulatory action” under section 3(f) of Executive Order 12866 and does not require an assessment of potential costs and benefits under section 6(a)(3) of that Order. It has not been reviewed by the Office of Management and Budget under that Order. It is not significant under the regulatory policies and procedures of the Department of Transportation (DOT) (44 FR 11040, February 26, 1979). We expect the economic impact of this temporary rule to be so minimal that a full Regulatory Evaluation under paragraph 10(e) of the regulatory policies and procedures of DOT is unnecessary. This is because the average number of requests for opening the drawspan are seven per year and alternate navigational routes are available.

Small Entities

Under the Regulatory Flexibility Act (5 U.S.C. 601-612), the Coast Guard must consider whether this temporary rule will have a significant economic impact on a substantial number of small entities. The term “small entities” comprises small businesses and not-for-profit organizations that are independently owned and operated and are not dominant in their fields and government jurisdictions with populations of less than 50,000.

Due to the small number of requests to open the bridge per year and the availability of alternative routes, the Coast Guard expects the impact of this action to be minimal. Therefore, the Coast Guard certifies under 5 U.S.C. 605(b), that this action will not have a significant economic impact on a substantial number of small entities.

Assistance for Small Entities

Under section 213(a) of the Small Business Regulatory Enforcement Fairness Act of 1996 (Pub. L. 104-121), we offer to assist small entities in understanding the rule so they can better evaluate its effects on them and participate in the rulemaking process. Any individual who qualifies or, believes they qualify as a small entity, requiring assistance with the provisions of this rule, may contact David H. Sulouff, Chief, Bridge Section, Eleventh Coast Guard District, Building 50-6, Coast Guard Island, Alameda, CA 94501-5100, telephone 510-437-3516.

Collection of Information

This rule calls for no new collection of information under the Paperwork Reduction Act (44 U.S.C. 3501-3520).

Federalism

We have analyzed this rule under the principles and criteria contained in Executive Order 13132, and have determined this rule does not have implications for federalism under that Order.

Unfunded Mandates Reform Act

The Unfunded Mandates Reform Act of 1995 (2 U.S.C. 1531-1538) governs the issuance of Federal regulations requiring unfunded mandates. An unfunded mandate is a regulation requiring a State, local, or tribal government or the private sector to incur direct costs without the Federal Government having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environmental

The Coast Guard considered the environmental impact of this temporary rule and concluded that under Chapter 2.B.2 and Figure 2-1, 32(e) of Commandant Instruction M16475.1C, this temporary rule is categorically excluded from further environmental documentation. A “Categorical Exclusion Determination” is available in the docket for inspection or copying where indicated under ADDRESSES.

List of Subjects in 33 CFR Part 117

Bridges.

For the reasons set out in the preamble, the Coast Guard amends Part 117 of Title 33, Code of Federal Regulations, as follows:

PART 117—DRAWBRIDGE OPERATION REGULATIONS

1. The authority citation for Part 117 continues to read as follows:

Authority: 33 U.S.C. Sec. 499; 49 CFR 1.46; 33 CFR 1.05-1(g); section 117.225 also issued under the authority of Pub. L. 102-587, 106 Stat. 5039.

2. From 12:01 a.m. on September 5 until 11:59 p.m. on December 21, 2000, § 117.161 is suspended and a new § 117.T162 is temporarily added to read as follows:

§ 117.T162 Honker Cut.

The draw of the Eight Mile Road Drawbridge over Honker Cut, mile 0.3, San Joaquin County, between Empire Tract and King Island at Stockton, California need not open for navigation from 12:01 a.m. on September 5 until 11:59 p.m. on December 21, 2000.

Dated: September 5, 2000.
E.R. Riutta,
Vice Admiral, U.S. Coast, Guard Commander, Eleventh Coast Guard District.

[FR Doc. 00-23331 Filed 9-11-00; 8:45 am]

BILLING CODE 4910-15-U